DEPARTMENT OF HEALTH AND HUMAN SERVICES

Centers for Disease Control and Prevention

[60-Day-09-09BL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar PhD, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Epidemiology and Impact of Workplace Violence in Pennsylvania Teachers and Paraprofessionals—NEW—National Institute for Occupational Safety and Health (NIOSH), Centers for Disease Control and Prevention (CDC).

Background and Brief Description

Workplace violence (WPV) is a significant concern for employers and employees alike; every year in the U.S., WPV results in hundreds of deaths, nearly two million nonfatal injuries, and billions of dollars in costs. Historically, the education field has not been the focus of WPV research; however, the classroom is a workplace too. From 1999 to 2003, teachers were the victims of approximately 183,000 nonfatal crimes including 119,000 thefts and 65,000 violent crimes such as rape and assault.

Workplace violence is not limited to physical attacks; verbal threats, bullying, and harassment also produce psychological harm to teachers and school staff. A newer form of such violence is that of electronic aggression. The CDC defines the problem as: “Any type of harassment or bullying (teasing, telling lies, making fun of someone, making rude or mean comments, spreading rumors, or making threatening or aggressive comments) that occurs through e-mail, a chat room, instant messaging, a Web site (including blogs) or text messaging.” While a recent study found that 35% of young people had been the victims of electronic aggression, the impact of this in the workplace is relatively unknown. The extant evidence indicates that working in a school environment carries an excess risk for becoming a victim of some form of WPV; however, little is known about the incidence or risk factors for such.

The Occupational Safety and Health Act, Public Law 91-596 (section 20[a] [1]) authorizes the National Institute for Occupational Safety and Health (NIOSH) to conduct research to advance the health and safety of workers. NIOSH is conducting a population-based, cross-sectional survey among teachers and paraprofessionals in the state of Pennsylvania. The goals of this study are (1) Estimate the number and prevalence proportions (rates) of physical, non-physical, and electronic WPV in teachers and paraprofessionals; (2) Identify the circumstances and most common risk factors for physical, non-physical, and electronic WPV in teachers and paraprofessionals; (3) Measure the impact of WPV on job satisfaction and quality of life.

NIOSH is proposing to conduct a population-based, cross-sectional survey among teachers and paraprofessionals in the state of Pennsylvania. Paper-and-pencil surveys will be mailed to potential participants through the Pittsburgh Federation of Teachers (PFT), Philadelphia Federation of Teachers (PA-AFT), and the Pennsylvania State Education Association (PSEA). Since approximately 90% of teachers and 65% of paraprofessionals in the state of Pennsylvania hold membership in one of these three unions and no known state-wide database exists that includes both teachers and paraprofessionals, a sample of eligible participants will be drawn using state-based union records.

A stratified random sample will be drawn to ensure representativeness on important dimensions such as gender of participant and urban-rural status of the school district. In conjunction with each participating union, study packets consisting of an introduction letter, paper-and-pencil survey, and non-response form will be mailed to eligible participant's home addresses. The questionnaire is a paper-and-pencil survey and provides information on the following categories: demographics, occupation, physical assault characteristics, non-physical assault characteristics, electronic aggression characteristics, job satisfaction, and quality of life.

The sample size for the cross-sectional survey is estimated to be approximately 6,450 teachers and paraprofessionals. This estimate is based on the number of reported teachers and paraprofessionals represented by the three unions participating in this study and on an 80% response rate that is comparable to the response rate of previously conducted surveys in similar populations. Pilot test data demonstrates that respondents should take approximately 30 minutes to complete the paper-and-pencil survey, resulting in an annualized burden estimate of 3,225 hours. Participation in the study is completely voluntary.

Once the study is completed, NIOSH will provide a copy of the final report to each participating union.

There are no costs to the respondents other than their time.

Estimated Annualized Burden Hours
Respondents | Number of respondents | Number of responses per respondent | Average burden per response (in hours) | Total burden (in hours)
Teachers & Support Personnel | 6,450 | 1 | 0.5 | 3,225
Total |  |  |  | 3,225

Dated: April 15, 2009.
Maryam I. Daneshvar,
Acting Reports Clearance Officer, Office of the Chief Science Officer, Centers for Disease Control and Prevention.

[FR Doc. E9-9156 Filed 4-21-09; 8:45 am]

BILLING CODE P